DEPARTMENT OF HOMELAND SECURITY

Federal Emergency Management Agency

[Docket ID FEMA-2019-0002; Internal Agency Docket No. FEMA-B-1939]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
El Paso | Town of Palmer Lake (18-08-1139P). | The Honorable John Cressman, Mayor, Town of Palmer Lake, P.O. Box 208, Palmer Lake, CO 80133. | Pikes Peak Regional Building Department, 2880 International Circle, Colorado Springs, CO 80910. | https://msc.fema.gov/portal/advanceSearch. | Sep. 19, 2019 | 080065
Larimer | Town of Johnstown (19-08-0211P). | The Honorable Gary Lebsack, Mayor, Town of Johnstown, 450 South Parish Avenue, Johnstown, CO 80534. | Town Hall, 450 South Parish Avenue, Johnstown, CO 80534. | https://msc.fema.gov/portal/advanceSearch. | Sep. 19, 2019 | 080250
Florida:
Duval | City of Jacksonville (19-04-0422P). | The Honorable Lenny Curry, Mayor, City of Jacksonville, 117 West Duval Street, Suite 400, Jacksonville, FL 32202. | Development Department, 214 North Hogan Street, Suite 2100, Jacksonville, FL 32202. | https://msc.fema.gov/portal/advanceSearch. | Sep. 23, 2019 | 120077
Monroe | City of Marathon (19-04-2700P). | The Honorable John Bartus, Mayor, City of Marathon, 9805 Overseas Highway, Marathon, FL 33050. | Planning Department, 9805 Overseas Highway, Marathon, FL 33050. | https://msc.fema.gov/portal/advanceSearch. | Sep. 30, 2019 | 120681
Monroe | Unincorporated areas of Monroe County (19-04-2598P). | The Honorable Sylvia Murphy, Mayor, Monroe County Board of Commissioners, 102050 Overseas Highway, Suite 234, Key Largo, FL 33037. | Monroe County Building Department, 2798 Overseas Highway, Suite 300, Key Largo, FL 33050. | https://msc.fema.gov/portal/advanceSearch. | Sep. 11, 2019 | 125129
Orange | City of Orlando (19-04-0400P). | The Honorable Buddy Dyer, Mayor, City of Orlando, 400 South Orange Avenue, Orlando, FL 32801. | Public Works Department, Engineering Division, 400 South Orange Avenue, Orlando, FL 32801. | https://msc.fema.gov/portal/advanceSearch. | Sep. 25, 2019 | 120186
Orange | Unincorporated areas of Orange County (19-04-0400P). | The Honorable Jerry L. Demings, Mayor, Orange County, 201 South Rosalind Avenue, 5th floor, Orlando, FL 32801. | Orange County Public Works Department, 4200 South John Young Parkway, Orlando, FL 32839. | https://msc.fema.gov/portal/advanceSearch. | Sep. 25, 2019 | 120179
Osceola | City of St. Cloud (19-04-0673P). | The Honorable Nathan Blackwell, Mayor, City of St. Cloud, 1300 9th Street, St. Cloud, FL 34769. | Building Department, 1300 9th Street, St. Cloud, FL 34769. | https://msc.fema.gov/portal/advanceSearch. | Aug. 22, 2019 | 120191
Osceola | Unincorporated areas of Osceola County (19-04-0673P). | The Honorable Cheryl Grieb, Chair, Osceola County Board of Commissioners, 1 Courthouse Square, Suite 4700, Kissimmee, FL 34741. | Osceola County Development Review Department, 1 Courthouse Square, Suite 1400, Kissimmee, FL 34741. | https://msc.fema.gov/portal/advanceSearch. | Aug. 22, 2019 | 120189
Polk | Unincorporated areas of Polk County (19-04-0741P). | The Honorable George Lindsey III, Chairman, Polk County Board of Commissioners, P.O. Box 9005, Drawer BC01, Bartow, FL 33831. | Polk County Land Development Division, 330 West Church Street, Bartow, FL 33830. | https://msc.fema.gov/portal/advanceSearch. | Sep. 19, 2019 | 120261
Louisiana:
Ascension | City of Gonzales (19-06-1893X). | The Honorable Barney Arceneaux, Mayor, City of Gonzales, 120 South Irma Boulevard, Gonzales, LA 70737. | City Hall, 120 South Irma Boulevard, Gonzales, LA 70737. | https://msc.fema.gov/portal/advanceSearch. | Sep. 20, 2019 | 220015
Ascension | Town of Sorrento (19-06-1893X). | The Honorable Michael Lambert, Mayor, Town of Sorrento, P.O. Box 65, Sorrento, LA 70778. | Town Hall, 8173 Main Street, Sorrento, LA 70778. | https://msc.fema.gov/portal/advanceSearch. | Sep. 20, 2019 | 220016
Ascension | Unincorporated areas of Ascension Parish (19-06-1893X). | The Honorable Kenny Matassa, Ascension Parish President, 615 East Worthy Road, Gonzales, LA 70737. | Ascension Parish Government Complex, 615 East Worthy Road, Gonzales, LA 70737. | https://msc.fema.gov/portal/advanceSearch. | Sep. 20, 2019 | 220013
New Mexico: Taos | Unincorporated areas of Taos County (19-06-0621P). | Mr. Brent Jaramillo, Manager, Taos County, 105 Albright Street, Suite G, Taos, NM 87571. | Taos County Planning Department, 105 Albright Street, Taos, NM 87571. | https://msc.fema.gov/portal/advanceSearch. | Aug. 30, 2019 | 350078
North Carolina: Surry | City of Mount Airy (18-04-4879P). | The Honorable David Rowe, Mayor, City of Mount Airy, 300 South Main Street, Mount Airy, NC 27030. | City Hall, 300 South Main Street, Mount Airy, NC 27030. | https://msc.fema.gov/portal/advanceSearch. | Sep. 12, 2019 | 370226
Oklahoma:
Muskogee | Town of Porum (19-06-1205P). | The Honorable Carl Warren, Chairman, Town of Porum Council, P. O. Box 180, Porum, OK 74455. | City Hall, 105 South Arkansas Street, Porum, OK 74455. | https://msc.fema.gov/portal/advanceSearch. | Sep. 13, 2019 | 400127
Muskogee | Unincorporated areas of Muskogee County (19-06-1205P). | The Honorable Ken Doke, Commissioner, District 1 Muskogee County, 3000 North Street, Muskogee, OK 74403. | Muskogee County Emergency Management, Department, 3000 North Street, Muskogee, OK 74403. | https://msc.fema.gov/portal/advanceSearch. | Sep. 13, 2019 | 400491
Pennsylvania:
Montgomery | Township of Lower Merion (18-03-2077P). | The Honorable Daniel S. Bernheim, President, Township of Lower Merion Board of Commissioners, 75 East Lancaster Avenue, Ardmore, PA 19003. | Township Hall, 75 East Lancaster Avenue, Ardmore, PA 19003. | https://msc.fema.gov/portal/advanceSearch. | Sep. 23, 2019 | 420757
Philadelphia | City of Philadelphia (18-03-2077P). | The Honorable James Keeney, Mayor, City of Philadelphia, 400 John F. Kennedy Boulevard, Philadelphia, PA 19107. | Department of Licenses and Inspections, 1401 John F. Kennedy Boulevard, Room 1130, Philadelphia, PA 19102. | https://msc.fema.gov/portal/advanceSearch. | Sep. 23, 2019 | 420757
South Carolina: Charleston | Town of Sullivan's Island (19-04-2775P). | The Honorable Patrick O'Neil, Mayor, Town of Sullivan's Island, P.O. Box 427, Sullivan's Island, SC 29482. | Town Hall, 2056 Middle Street, Sullivan's Island, SC 29482. | https://msc.fema.gov/portal/advanceSearch. | Sep. 25, 2019 | 455418
Tennessee: Sumner | City of Gallatin (18-04-7343P). | The Honorable Paige Brown, Mayor, City of Gallatin, 132 West Main Street, Gallatin, TN 37066. | Planning Department, 132 West Main Street, Gallatin, TN 37066. | https://msc.fema.gov/portal/advanceSearch. | Sep. 6, 2019 | 470185
Texas:
Bexar | City of Leon Valley (18-06-3403P). | The Honorable Chris Riley, Mayor, City of Leon Valley, 6400 El Verde Road, Leon Valley, TX 78238. | Community Development Department, 6400 El Verde Road, Leon Valley, TX 78238. | https://msc.fema.gov/portal/advanceSearch. | Aug. 5, 2019 | 480042
Bexar | City of San Antonio (18-06-3403P). | The Honorable Ron Nirenberg, Mayor, City of San Antonio, P.O. Box 839966, San Antonio, TX 78283. | Transportation and Capitol Improvements Department, Storm Water Division, 1901 South Alamo Street, 2nd Floor, San Antonio, TX 78204. | https://msc.fema.gov/portal/advanceSearch. | Aug. 5, 2019 | 480045
Bexar | City of San Antonio (19-06-0142P). | The Honorable Ron Nirenberg, Mayor, City of San Antonio, P.O. Box 839966, San Antonio, TX 78283. | Transportation and Capitol Improvements Department, Storm Water Division, 1901 South Alamo Street, 2nd Floor, San Antonio, TX 78204. | https://msc.fema.gov/portal/advanceSearch. | Aug. 5, 2019 | 480045
Collin and Denton | City of Celina (18-06-1942P). | The Honorable Sean Terry, Mayor, City of Celina, 142 North Ohio Street, Celina, TX 75009. | Engineering Services Department, 142 North Ohio Street, Celina, TX 75009. | https://msc.fema.gov/portal/advanceSearch. | Aug. 5, 2019 | 480133
Collin | City of McKinney (18-06-2399P). | The Honorable George Fuller, Mayor, City of McKinney, P.O. Box 517, McKinney, TX 75070. | Engineering Department, 221 North Tennessee Street, McKinney, TX 75069. | https://msc.fema.gov/portal/advanceSearch. | Sep. 9, 2019 | 480135
Collin | Unincorporated areas of Collin County (18-06-1942P). | The Honorable Chris Hill, Collin County Judge, 2300 Bloomdale Road, Suite 4192, McKinney, TX 75071. | Collin County Engineering Department, 4690 Community Avenue, Suite 200, McKinney, TX 75071. | https://msc.fema.gov/portal/advanceSearch. | Aug. 5, 2019 | 480130
Dallas | City of Coppell (18-06-2208P). | The Honorable Karen Hunt, Mayor, City of Coppell, P.O. Box 9478, Coppell, TX 75019. | City Hall, 255 East Parkway Boulevard, Coppell, TX 75019. | https://msc.fema.gov/portal/advanceSearch. | Sep. 23, 2019 | 480170
Dallas | City of Rowlett (18-06-3684P). | Mr. Brian Funderburk, Manager, City of Rowlett, 4000 Main Street, Rowlett, TX 75088. | Community Development Department, 3901 Main Street, Rowlett, TX 75088. | https://msc.fema.gov/portal/advanceSearch. | Sep. 13, 2019 | 480185
Denton | Unincorporated areas of Denton County (18-06-1942P). | The Honorable Andy Eads, Denton County Judge, 110 West Hickory Street, 2nd Floor, Denton, TX 76201. | Denton County Public Works, Engineering Department, 1505 East McKinney Street, Suite 175, Denton, TX 76209. | https://msc.fema.gov/portal/advanceSearch. | Aug. 5, 2019 | 480774
Grayson | City of Sherman (19-06-0025P). | The Honorable David Plyler, Mayor, City of Sherman, 220 West Mulberry Street, Sherman, TX 75090. | Engineering Department, 220 West Mulberry Street, Sherman, TX 75090. | https://msc.fema.gov/portal/advanceSearch. | Sep. 30, 2019 | 485509
Liberty | Unincorporated areas of Muskogee County (19-06-1218P). | The Honorable Jay H. Knight, Liberty County Judge, 1923 Sam Houston Street, Room 201, Liberty, TX 77575. | Liberty County Engineering Department, 624 Fannin Street, Liberty, TX 77575. | https://msc.fema.gov/portal/advanceSearch. | Sep. 20, 2019 | 480438
Rockwell | City of Fate (18-06-3709P). | The Honorable Lorne Megyesi, Mayor, City of Fate, P.O. Box 159, Fate, TX 75132. | City Hall, 1900 C.D. Boren Parkway, Fate, TX 75087. | https://msc.fema.gov/portal/advanceSearch. | Sep. 16, 2019 | 480544

[FR Doc. 2019-14176 Filed 7-2-19; 8:45 am]

BILLING CODE 9110-12-P